DEPARTMENT OF HEALTH AND HUMAN SERVICES

National Institutes of Health

Center for Scientific Review; Amended Notice of Meeting

Notice is hereby given of a change in the meeting of the Cellular Signaling and Regulatory Systems Study Section, September 29, 2016, 08:00 a.m. to September 29, 2017, 06:00 p.m., Residence Inn Bethesda, 7335 Wisconsin Avenue, Bethesda, MD 20814 which was published in the Federal Register on August 31, 2016, 81 FR PG 60010.

The end date is September 29, 2016 instead of September 29, 2017. The meeting location remains the same. The meeting is closed to the public.

Dated: September 1, 2016.
David Clary,
Program Analyst, Office of Federal Advisory Committee Policy.

[FR Doc. 2016-21514 Filed 9-7-16; 8:45 am]

BILLING CODE 4140-01-P